DEPARTMENT OF LABOR

Office of Federal Contract Compliance Programs

[OMB Control No. 1250-0002]

Proposed Revision of Information Collection Request; Complaint Involving Employment Discrimination by a Federal Contractor or Subcontractor

AGENCY: Office of Federal Contract Compliance Programs, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of Federal Contract Compliance Programs (OFCCP) is soliciting comments on the information collection, Complaint Involving Employment Discrimination by a Federal Contractor or Subcontractor.

DATES: Written comments must be submitted to the office listed in the addresses section below on or before September 5, 2025.

ADDRESSES: You may submit comments as follows. Please note that late, untimely filed comments will not be considered.

Electronic Submissions: Submit electronic comments in the following way:

• Federal eRulemaking Portal: https://www.regulations.gov. Follow the instructions for submitting comments for OFCCP-2025-0004. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OFCCP, Division of Policy and Program Development, 200 Constitution Avenue NW, Room C-3325, Washington, DC 20210.

• OFCCP will post your comment as well as any attachments, except for information submitted and marked as confidential, in the docket at https://www.regulations.gov.

FOR FURTHER INFORMATION CONTACT: Catherine Eschbach, Director, Office of Federal Contract Compliance Programs, 200 Constitution Avenue, NW, Washington, DC 20210. Telephone: (202) 693-0101 or toll free at 1-800-397-6251. If you are deaf, hard of hearing, or have a speech disability, please dial 7-1-1 to access telecommunications relay services. Copies of this notice may be obtained in alternative formats (large print, braille, audio recording) upon request by calling the numbers listed above.

Authority: 29 U.S.C. 793; 38 U.S.C. 4212; 41 CFR 60-300.61; and 41 CFR 60-741.61.

SUPPLEMENTARY INFORMATION:

I. Background

OFCCP administers and enforces Section 503 of the Rehabilitation Act of 1973, as amended (Section 503), and the Vietnam Era Veterans' Readjustment Assistance Act of 1974, as amended (VEVRAA). Section 503 prohibits employment discrimination against applicants and employees based on disability and requires Federal contractors and subcontractors to take steps to employ, advance in employment, and otherwise treat qualified individuals without discrimination based on disabilities. Its basic coverage requirements apply to contractors with a federal contract or subcontract of more than $15,000. VEVRAA requires contractors to take steps to employ and advance in employment, qualified individuals, namely disabled veterans, recently separated veterans, active-duty wartime or campaign badge veterans, and Armed Forces service medal veterans, and by regulation prohibits employment discrimination against protected veterans and otherwise treat qualified individuals without discrimination based on their status as a protected veteran. Its requirements apply to contractors with a federal contract or subcontract of $150,000 or more. Under both laws, OFCCP is required to institute a prompt investigation of each complaint it receives.

At the time this information collection was last approved, OFCCP also enforced Executive Order 11246 (E.O. 11246). E.O. 11246 prohibited Federal contractors and subcontractors from discriminating in employment based on race, color, religion, sex, sexual orientation, gender identity, and national origin. It also prohibited Federal contractors and subcontractors from taking adverse employment actions against applicants or employees because they inquired about, discussed, or disclosed information about their pay or the pay of their co-workers, subject to certain limitations. On January 21, 2025, President Trump issued Executive Order 14173 (E.O. 14173), which revoked E.O. 11246. Therefore, applicants and employees of Federal contractors and subcontractors, authorized representatives, or third parties may file complaints of employment discrimination with OFCCP pursuant to Section 503 or VEVRAA but may no longer file complaints with OFCCP pursuant to E.O. 11246.

OFCCP is requesting approval to revise questions on the Complaint of Employment Discrimination Involving a Federal Contractor or Subcontractor form (CC-4) and Pre-Complaint Inquiry for Employment Discrimination Involving a Federal Contractor or Subcontractor form (CC-390) to align with E.O. 14173 by removing items related to E.O. 11246 from these forms.

OFCCP seeks the approval of these information collection instruments in order to carry out its statutory responsibilities under Section 503 and VEVRAA, including its obligation to promptly investigate the complaints filed under either law.

II. Desired Focus of Comments

OFCCP is soliciting comments concerning the proposed information collection related to the Complaint Involving Employment Discrimination by a Federal Contractor or Subcontractor. OFCCP is particularly interested in comments that:

• Evaluate whether the collection of information is necessary for the proper performance of the functions of the Agency, including whether the information has practical utility;

• Evaluate the accuracy of OFCCP's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov. Questions about the information collection requirements may be directed to the person listed in the FOR FURTHER INFORMATION CONTACT section of this notice.

III. Current Actions

This information collection is for OFCCP's complaint program, OMB Control Number 1250-0002. OFCCP does not anticipate changes with respect to the number of respondents, responses, or burden hours from the previous information collection request. OFCCP has updated the burden costs supporting this information collection request from the previous information collection request due to changes in copying and mailing costs since the last approval.

Agency: Office of Federal Contract Compliance Programs.

Type of Review: Revision of a currently approved collection.

Title of Collection: Complaint Involving Employment Discrimination by a Federal Contractor or Subcontractor.

Forms: CC-4 and CC-390.

OMB Control Number: 1250-0002.

Affected Public: Business or other for profit; individuals.

Estimated Number of Respondents: 1,618 respondents for the CC-390; 100 respondents for the CC-4.

Frequency: On occasion.

Number of Responses: 1,618 responses for the CC-390; 100 responses for the CC-4.

Estimated Average Time per Response: .25 hours for the CC-390; 1 hour for the CC-4.

Estimated Total Annual Burden Hours: 505 hours.

Total Estimated Annual Other Cost Burden: $1,797.

Catherine Eschbach,
Director, Office of Federal Contract Compliance Programs.

[FR Doc. 2025-12556 Filed 7-3-25; 8:45 am]

BILLING CODE 4510-CM-P